DEPARTMENT OF TRANSPORTATION

Federal Aviation Administration

Notice of Cancellation of Environmental Impact Statement for the West Bend Municipal Airport, West Bend, WI

AGENCY: Federal Aviation Administration, DOT.

ACTION: Cancellation of Environmental Impact Statement Process.

SUMMARY: The Federal Aviation Administration (FAA) announces that is has discontinued the preparation of an Environmental Impact Statement (EIS) for proposed development at West Bend Municipal Airport, West Bend, Wisconsin. The FAA is doing so because the current proposed development is not ripe for decision at this time and lacks proper support and justification in the near-term planning period.

On September 6, 2006, the FAA-Great Lakes Region, published in the Federal Register a Notice of Intent to prepare an EIS and conduct scoping meetings (Volume 71, Number 172, FR 52608-52609). The EIS and Scoping Meetings addressed proposed construction of a new 5,500 foot x 100 foot Runway 7/25 with full instrument landing system and associated navigational aids at the airport.

Other proposed development included: Construction of a full parallel taxiway for Runway 7/25, hangar area development, land acquisition, widening and rerouting of Highway 33 around the north side of the airport between North Trenton Road and 4,000 feet east of North Oak Road. Two government agency scoping meetings were held on October 11, and October 19, 2006. The public scoping meeting was held October 11, 2006.

The FAA has made little forward progress in the EIS process due to various external constraints and obstacles associated with this airport and proposed development. The major issues surrounding this proposed development are: Lack of justification to support the purpose of and need for proposed project; many acres of high quality wetland impacts; airport (airfield) and physical (natural feature) site constraints; Federal and State Resource Agency opposition; and economic downturn in aircraft demand, operations and loss of based aircraft. As such, the FAA is hereby canceling the EIS process.

Point of Contact: Mr. Dan Millenacker, Environmental Protection Specialist, FAA-Minneapolis Airports District Office, 6020 28th Avenue South, Room 102, Minneapolis, Minnesota 55450-2706, (612) 713-4359.

Issued in Minneapolis, Minnesota, July 15, 2009.
Jesse Carriger,
Manager, Minneapolis Airport District Office, FAA, Great Lakes Region.

[FR Doc. E9-17866 Filed 7-24-09; 8:45 am]

BILLING CODE 4910-13-P